PEACE CORPS

22 CFR Part 303

RIN 0420-AA31

Procedures for Disclosure of Information Under the Freedom of Information Act

AGENCY: The Peace Corps.

ACTION: Final rule.

SUMMARY: This final rule corrects the regulations published in the Federal Register (FR) on April 11, 2024, which entered into effect on May 13, 2024. These amendments reinstate introductory text, which was inadvertently removed, and recodify introductory text to a new paragraph. One additional amendment also removes a gender pronoun from the text.

DATES: This rule is effective June 14, 2024.

FOR FURTHER INFORMATION CONTACT: David van Hoogstraten, Supervisory Associate General Counsel at policy@peacecorps.gov or (202) 692-2150.

SUPPLEMENTARY INFORMATION: On June 30, 2016, President Obama signed into law the Freedom of Information Act (FOIA) Improvement Act of 2016, Public Law 114-185, 130 Stat. 538 (the Act). The Act specifically requires all agencies to review and update their FOIA regulations in accordance with its provisions, and the Peace Corps is making changes to its regulations accordingly. Among other requirements, the Act addresses a range of procedural issues that affect Peace Corps FOIA regulations, including requirements that agencies establish a minimum of 90 days for requesters to file an administrative appeal and that agencies provide notice to requesters of dispute resolution services at various times throughout the FOIA process. The final rule published on April 11, 2024, at 89 FR 25521, revised and updated policies and procedures concerning the Peace Corps FOIA process, which was last revised in 2014.

This final rule seeks to correct the newly published language at 22 CFR part 303 and makes the following key amendments:

22 CFR Part 303

1. Exemptions for withholding records. In § 303.9 at paragraph (b), reinstate the previous introductory text and recodify the introductory text included in 89 FR 25521 as a new paragraph (f).

2. Procedures for responding to a subpoena. In § 303.17 at paragraph (b)(4), remove the gender pronoun, “he,” when referring to the General Counsel or designee.

Regulatory Certifications

Executive Orders 12866 and 13563—Regulatory Review

This regulation has been drafted and reviewed in accordance with Executive Order 12866, “Regulatory Planning and Review,” section 1(b), Principles of Regulation, and in accordance with Executive Oder 13563, “Improving Regulation and Regulatory Review,” section 1(b), General Principles of Regulation, and the Peace Corps has determined it to be non-significant within the meaning of Executive Order 12866. Additionally, because this final rule does not meet the definition of a significant regulatory action it does not trigger the requirements contained in Executive Order 13771. See the Office of Management and Budget's (OMB's) Memorandum titled “Interim Guidance Implementing section 2 of the Executive order of January 30, 2017, titled `Reducing Regulation and Controlling Regulatory Costs' ” (February 2, 2017), supplemented by OMB's Memorandum titled “Implementing Executive Order 13771, Titled `Reducing Regulation and Controlling Regulatory Costs.' ”

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector, of $100,000,000 or more in any one year, and it will not significantly or uniquely affect small governments.

Paperwork Reduction Act of 1995 (44 U.S.C., Chapter 35)

This regulatory action will not impose any additional reporting or recordkeeping requirements under the Paperwork Reduction Act.

Federalism (Executive Order 13132)

This regulatory action does not have federalism implications, as set forth in Executive Order 13132. It will not have substantial direct effects on the States, on the relationship between the National Government and the States, or on the distribution of power and responsibilities among the various levels of government.

List of Subjects in 22 CFR Part 303

Freedom of information.

For the reasons set out in the preamble, the Peace Corps amends 22 CFR part 303 as follows:

PART 303—PROCEDURES FOR DISCLOSURE OF INFORMATION UNDER THE FREEDOM OF INFORMATION ACT

1. Amend § 303.9 by:

a. Redesignating paragraph (b) introductory text as paragraph (f);

b. Adding a new paragraph (b) introductory text; and

c. Removing the heading from paragraph (e).

The addition reads as follows:

§ 303.9 Exemptions for withholding information.

* * * * *

(b) In the event that one or more of the exemptions in paragraph (a) of this section apply, any reasonably segregable portion of a record shall be provided to the requester after deletion of the portions that are exempt. The Peace Corps shall indicate, if technically feasible, the precise amount of information deleted and the exemption under which the deletion is made at the place in the record where the deletion is made, and indicate the exemption under which a deletion is made on the released portion of the record, unless including that indication would harm an interest protected by the exemption. At the discretion of the Peace Corps officials authorized to grant or deny a request for records, it may be possible to provide a requester with:

* * * * *

2. Amend § 303.17 by revising paragraph (b)(4) to read as follows:

§ 303.17 Procedures for responding to a subpoena.

* * * * *

(b) * * *

(4) To the extent deemed necessary or appropriate, the General Counsel or designee may also require from the party causing such demand to be issued or served a plan of all reasonably foreseeable demands, including but not limited to names of all employees and former employees from whom discovery will be sought, areas of inquiry, length of time of proceedings requiring oral testimony and identification of documents to be used or whose production is sought.

* * * * *

Dated: June 10, 2024.
James Olin,
FOIA and Privacy Officer.

[FR Doc. 2024-13030 Filed 6-13-24; 8:45 am]

BILLING CODE 6051-01-P